DEPARTMENT OF TRANSPORTATION

Federal Aviation Administration

14 CFR Part 39

[Docket No. FAA-2021-1172; Project Identifier MCAI-2021-00939-T; Amendment 39-22051; AD 2022-11-01]

RIN 2120-AA64

Airworthiness Directives; Airbus SAS Airplanes

AGENCY: Federal Aviation Administration (FAA), DOT.

ACTION: Final rule.

SUMMARY: The FAA is adopting a new airworthiness directive (AD) for certain Airbus SAS Model A300 series airplanes, Model A300 B4-600, B4-600R, and F4-600R series airplanes, and Model A300 C4-605R Variant F airplanes (collectively called Model A300-600 series airplanes). This AD was prompted by reports of cracking in the main landing gear (MLG) support rib 5 lower flange. This AD requires a one-time detailed inspection (DET) of the affected area, and applicable corrective actions, as specified in a European Union Aviation Safety Agency (EASA) AD, which is incorporated by reference. The FAA is issuing this AD to address the unsafe condition on these products.

DATES: This AD is effective July 5, 2022.

The Director of the Federal Register approved the incorporation by reference of a certain publication listed in this AD as of July 5, 2022.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this material at the FAA, Airworthiness Products Section, Operational Safety Branch, 2200 South 216th St., Des Moines, WA. For information on the availability of this material at the FAA, call 206-231-3195. It is also available in the AD docket at https://www.regulations.gov by searching for and locating Docket No. FAA-2021-1172.

Examining the AD Docket

You may examine the AD docket at https://www.regulations.gov by searching for and locating Docket No. FAA-2021-1172; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, Large Aircraft Section, FAA, International Validation Branch, 2200 South 216th St., Des Moines, WA 98198; telephone and fax 206-231-3225; email dan.rodina@faa.gov.

SUPPLEMENTARY INFORMATION:

Background

EASA, which is the Technical Agent for the Member States of the European Union, has issued EASA AD 2021-0190, dated August 17, 2021 (EASA AD 2021-0190) (also referred to as the MCAI), to correct an unsafe condition for certain Airbus SAS Model A300, A300-600, and A300-600ST airplanes. Model A300-600ST airplanes are not certificated by the FAA and are not included on the U.S. type certificate data sheet; this AD therefore does not include those airplanes in the applicability.

The FAA issued a notice of proposed rulemaking (NPRM) to amend 14 CFR part 39 by adding an AD that would apply to certain Airbus SAS Model A300 series airplanes and Model A300-600 series airplanes. The NPRM published in the Federal Register on January 12, 2022 (87 FR 1703). The NPRM was prompted by reports of cracking in the MLG support rib 5 lower flange. The NPRM proposed to require a one-time DET of the affected area, and applicable corrective actions, as specified in EASA AD 2021-0190.

The FAA is issuing this AD to address cracking of the MLG support rib 5 lower flange. This condition, if not detected and corrected, could affect the structural integrity of the airplane. See the MCAI for additional background information.

Discussion of Final Airworthiness Directive

Comments

The FAA received a comment from FedEx. The following presents the comment received on the NPRM and the FAA's response.

Request for Allowance of Previously Approved Hardware

FedEx requested that the FAA include a comment allowing previous Airbus Repair Design Approval Sheet (RDAS)-approved hardware that is different from the hardware specified in Airbus Alert Operators Transmission (AOT) A57W017-21 (which is referred to in EASA AD 2021-0190). FedEx noted that it had airplanes with different fasteners than those specified in a required for compliance (RC) step in Airbus AOT A57W017-21, and that those different fasteners were approved through an Airbus RDAS. FedEx added that Airbus provided configuration approval and structural acceptance of its proposed deviations to the fastener specifications through Airbus Statement of Airworthiness Compliance (ASAC) 80955386/006/2021 Issue 1, dated August 25, 2021, and ASAC 08955386/024/2022 Issue 1, dated February 25, 2022. FedEx stated that adding such a provision in the proposed AD would eliminate the necessity for an alternative method of compliance (AMOC).

The FAA concurs with FedEx's request because the alternative method will provide an acceptable level of safety. The ASAC documents are equivalent to an AMOC approval. The FAA has redesignated paragraph (i)(1) of the proposed AD as paragraph (i)(1)(i) of this AD and added paragraph (i)(1)(ii) to this AD to specify that Airbus ASAC 80955386/006/2021, Issue 1, dated August 25, 2021, and ASAC 80955386/024/2022, Issue 1, dated February 25, 2022, are approved as AMOCs for the corresponding provisions of this AD, for the airplanes identified in those ASACs only.

Conclusion

The FAA reviewed the relevant data, considered the comment received, and determined that air safety requires adopting this AD as proposed. Except for minor editorial changes, and any other changes described previously, this AD is adopted as proposed in the NPRM. None of the changes will increase the economic burden on any operator. Accordingly, the FAA is issuing this AD to address the unsafe condition on these products.

Related Service Information Under 1 CFR Part 51

EASA AD 2021-0190 specifies procedures for a DET of the affected area, a one-time fluorescent penetrant inspection (FPI) around some fastener holes in the affected area, and applicable corrective action(s) including crack repair.

This material is reasonably available because the interested parties have access to it through their normal course of business or by the means identified in the ADDRESSES section.

Costs of Compliance

The FAA estimates that this AD affects 124 airplanes of U.S. registry. The FAA estimates the following costs to comply with this AD:

Estimated Costs for Required Actions
Labor cost | Parts cost | Cost per product | Cost on U.S. operators
23 work-hours × $85 per hour = $1,955 | $0 | $1,955 | $242,420

The FAA estimates the following costs to replace any cracked rib that would be required based on the results of any required actions and repair status. The FAA has no way of determining the number of aircraft that might need this on-condition action:

Estimated Costs of On-Condition Actions
Labor cost | Parts cost | Cost per product
Up to 1,500 work-hours × $85 per hour = $127,500 | $620,000 | Up to $747,500.

The FAA has received no definitive data on which to base the cost estimates for the repair specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-11-01 Airbus SAS: Amendment 39-22051; Docket No. FAA-2021-1172; Project Identifier MCAI-2021-00939-T.

(a) Effective Date

This airworthiness directive (AD) is effective July 5, 2022.

(b) Affected ADs

None.

(c) Applicability

This AD applies to the Airbus SAS airplanes, certificated in any category, without Airbus modification 11912 and identified in figure 1 to paragraph (c) of this AD.

(d) Subject

Air Transport Association (ATA) of America Code 57, Wings.

(e) Unsafe Condition

This AD was prompted by reports of cracking in the main landing gear (MLG) support rib 5 lower flange, inboard and outboard of Rib 5, on the right-hand and left-hand sides. The FAA is issuing this AD to address cracking of the MLG support rib 5 lower flange. This condition, if not detected and corrected, could affect the structural integrity of the airplane.

(f) Compliance

Comply with this AD within the compliance times specified, unless already done.

(g) Requirements

Except as specified in paragraph (h) of this AD: Comply with all required actions and compliance times specified in, and in accordance with, European Union Aviation Safety Agency (EASA) AD 2021-0190, dated August 17, 2021 (EASA AD 2021-0190).

(h) Exceptions to EASA AD 2021-0190

(1) Where EASA AD 2021-0190 refers to its effective date, this AD requires using the effective date of this AD.

(2) Where paragraph (3) of EASA AD 2021-0190 specifies to “accomplish those instructions accordingly” if any crack is detected, for this AD if any crack is detected, the crack must be repaired before further flight using a method approved by the Manager, Large Aircraft Section, International Validation Branch, FAA; or EASA; or Airbus SAS's EASA Design Organization Approval (DOA). If approved by the DOA, the approval must include the DOA-authorized signature.

(3) The “Remarks” section of EASA AD 2021-0190 does not apply to this AD.

(i) Additional AD Provisions

The following provisions also apply to this AD:

(1) Alternative Methods of Compliance (AMOCs):

(i) The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the responsible Flight Standards Office.

(ii) Airbus Statement of Airworthiness Compliance (ASAC) 80955386/006/2021, Issue 1, dated August 25, 2021, and ASAC 80955386/024/2022, Issue 1, dated February 25, 2022, are approved as AMOCs for the corresponding provisions of this AD for the airplanes identified in those ASACs only.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (i)(2) of this AD, if any service information referenced in EASA AD 2021-0190 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(j) Related Information

For more information about this AD, contact Dan Rodina, Aerospace Engineer, Large Aircraft Section, FAA, International Validation Branch, 2200 South 216th St., Des Moines, WA 98198; telephone and fax 206-231-3225; email dan.rodina@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0190, dated August 17, 2021.

(ii) [Reserved]

(3) For EASA AD 2021-0190, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: https://www.archives.gov/federal-register/cfr/ibr-locations.html.

Issued on May 13, 2022.
Gaetano A. Sciortino,
Deputy Director for Strategic Initiatives, Compliance & Airworthiness Division, Aircraft Certification Service.

[FR Doc. 2022-11538 Filed 5-27-22; 8:45 am]

BILLING CODE 4910-13-P